DEPARTMENT OF HEALTH AND HUMAN SERVICES

Administration for Children and Families

Proposed Information Collection Activity; Descriptive Study of the Unaccompanied Refugee Minors Program (New Collection)

AGENCY: Office of Planning, Research, and Evaluation; ACF; HHS.

ACTION: Request for public comment.

SUMMARY: The Office of Planning, Research, and Evaluation (OPRE) at the Administration for Children and Families (ACF), U.S. Department of Health and Human Services (HHS) is proposing data collection activities as part of a project to better understand the range of child welfare services and benefits provided through the Unaccompanied Refugee Minors (URM) Program.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION: The information collection activities to be submitted in the package include:

1. Survey of State Refugee Coordinators (SRCs) from the 15 states with URM programs.

2. Survey of URM Program Directors from all 22 URM programs.

3. Survey of Private Custody Child Welfare Agency Administrators from nine states with private custody arrangements.

4. Interviews with URM Program Managers from six URM programs.

5. Interviews with URM Program Staff (e.g. case managers, data managers) from six URM programs.

6. Interviews with Child Welfare Agency Administrators who have contact with six URM programs.

7. Interviews with Community Partners including leadership and line staff from local organizations, such as health care and mental health care providers, legal aid organizations, and faith-based groups serving the URM population at six URM program sites.

8. Interviews with Community Partners in the field of education, such as school administrators and counselors, and organizations providing English language education and support at six URM program sites.

9. Focus Groups for URM Youth from six URM programs.

10. Focus Groups for URM Foster Families from six URM programs.

Respondents: State Refugee Coordinators and supporting staff, URM Program Directors and supporting staff, Child Welfare Agency Administrators and supporting staff, URM program staff (case workers, data managers, and other staff), staff from community partner organizations (e.g. health and mental health service providers, education service providers, faith-based organizations), URM youth, and URM foster families.

Annual Burden Estimates
Instrument | Total/annual number of respondents | Number of responses per respondent | Average burden hours per response | Annual burden hours
Survey of State Refugee Coordinators | 37.5 | 1 | 0.67 | 25
Survey of URM Program Directors | 55 | 1 | 1 | 55
Survey of Private Custody Child Welfare Agency Administrators | 21 | 1 | 0.67 | 14
Interviews with URM Program Managers | 9 | 1 | 1.5 | 14
Interviews with URM Program Staff | 36 | 1 | 1.25 | 45
Interviews with Child Welfare Agency Administrators | 26 | 1 | 1 | 26
Interviews with Community Partners [General] | 48 | 1 | 1 | 48
Interviews with Community Partners [Education] | 12 | 1 | 1 | 12
Focus Groups with URM Youth | 54 | 1 | 1.5 | 81
Focus Groups with URM Foster Families | 54 | 1 | 1.5 | 81

Estimated Total Annual Burden Hours: 401.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 1110 of the Social Security Act.

Emily B. Jabbour,
ACF/OPRE Certifying Officer.

[FR Doc. 2018-20068 Filed 9-14-18; 8:45 am]

BILLING CODE 4184-07-P